DEPARTMENT OF EDUCATION

Applications for New Awards; Trauma Recovery Demonstration Grant Program

AGENCY: Office of Elementary and Secondary Education, Department of Education.

ACTION: Notice.

SUMMARY: The Department of Education (Department) is issuing a notice inviting applications for fiscal year (FY) 2019 for the Trauma Recovery Demonstration Grant Program, Catalog of Federal Domestic Assistance (CFDA) number 84.424C. This notice relates to the approved information collection under OMB control number 1894-0006.

DATES:

Applications Available: July 5, 2019.

Deadline for Transmittal of Applications: August 14, 2019.

ADDRESSES: For the addresses for obtaining and submitting an application, please refer to our Common Instructions for Applicants to Department of Education Discretionary Grant Programs, published in the Federal Register on February 13, 2019 (84 FR 3768) and available at www.govinfo.gov/content/pkg/FR-2019-02-13/pdf/2019-02206.pdf.

FOR FURTHER INFORMATION CONTACT: Shauna Knox, U.S. Department of Education, 400 Maryland Avenue SW, Room 3E250, Washington, DC 20202-6450. Telephone: (202) 453-5953. Email: TraumaRecovery@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Trauma Recovery Demonstration Grant Program provides competitive grants to State educational agencies (SEAs) to support model programs that enable a student from a low-income family (as defined in this notice) who has experienced trauma that negatively affects the student's educational experience to access the trauma-specific mental-health services from the provider that best meets the student's needs. The parent (as defined in this notice) of such a student from a low-income family may request services on behalf of the student.

Background: A landmark study of adverse childhood experiences by the Centers for Disease Control and Kaiser Permanente found that over half of respondents reported experiencing adverse childhood experiences. The study linked adverse experiences—particularly exposure to multiple categories of adverse experiences—with negative adult health outcomes.¹ Since that study, additional research on adverse childhood experiences confirms the prevalence of experiencing such potentially traumatic events is near 50 percent of children from birth through age 17, though rates vary by locale.² Relatedly, exposure to violence has been linked with negative school outcomes, such as decreased school attendance, more behavioral challenges or symptoms of anxiety and depression, and lower grades.3 4

¹ Felitti, Vincent J., et al. (1998). Relationship of Childhood Abuse and Household Dysfunction to Many of the Leading Causes of Death in Adults. American Journal of Preventive Medicine, 14(4), 245-258.

² Sacks, V., Murphy, D., & Moore, K. (2014). Adverse Childhood Experiences: National and State-level Prevalence. Child Trends. Publication #2014-28. https://www.childtrends.org/wp-content/uploads/2014/07/Brief-adverse-childhood-experiences_FINAL.pdf. Accessed May 14, 2019.

³ Aviles, A., Anderson, T.R., & Davila, E.R. (2006). Child and Adolescent Social-Emotional Development within the Context of School. Child and Adolescent Mental Health. 11(1): 32-39.

⁴ Hurt, H., et al. (2001). Exposure to Violence: Psychological and Academic Correlates in Child Witnesses. Journal of the American Medical Association Pediatrics. 155(12): 1351-1356.

In December 2018, the Federal Commission on School Safety (FCSS) released its final report, including recommendations for State, local, and Federal leaders to improve school safety.⁵ In the report, the FCSS recommended States and school districts expand students' access to mental health services. By expanding student access to trauma-specific mental health services and encouraging cross-agency collaboration to promote access to mental health services, the Trauma Recovery Demonstration Grant Program will support States' and school districts' efforts to implement this recommendation as well as recommendations related to addressing cyberbullying and school safety and creating a culture of connectedness.

⁵ DeVos, B., et al. Final Report of the Federal Commission on School Safety. (2018). https://www2.ed.gov/documents/school-safety/school-safety-report.pdf.

In keeping with the FCSS report, the Department acknowledges that it may be necessary for students to receive trauma-specific mental health services outside of a school setting. Through this grant program, a student from a low-income family (as defined in this notice) who has experienced trauma that negatively affects the student's educational experience or the parent (as defined in this notice) of such a student acting on the student's behalf will have greater access to the trauma-specific mental-health services from the provider that best meets the student's needs. This program is being established with funds from the two percent reservation under section 4103(a)(3) of the Elementary and Secondary Education Act (ESEA), which provides for technical assistance and capacity building to support title IV, part A of the ESEA. Specifically, projects funded under the program are intended to help build the capacity of SEAs and local educational agencies (LEAs) by demonstrating alternative models for delivering trauma-specific mental health services that States and LEAs may support with formula grant funds received under the Student Support and Academic Enrichment program authorized by title IV, part A of the ESEA.

An eligible student is a preschool, elementary, or secondary school student from a low-income family (as defined in this notice) who has experienced trauma (as defined in this notice) and subsequently demonstrates academic, behavioral, attendance, or other issues at school, as identified by the SEA in its application. Incidents of trauma may include bullying (including cyberbullying); ⁶ harassment; experiencing violence, such as school shootings or suicide clusters; or other physically or emotionally harmful or life-threatening events that have lasting adverse effects on an individual's functioning and mental, physical, social, or emotional health. Traumatic incidents may be those that occur either within or outside a school environment.

⁶ Note that whether bullying or cyberbullying results in trauma will depend on the individual circumstances and whether the event is physically or emotionally harmful or life-threatening and has lasting adverse effects on an individual's functioning and mental, physical, social, or emotional health.

Trauma-specific mental health services as defined in this notice may include those the Substance Abuse and Mental Health Services Administration (SAMHSA) identified in a Treatment Improvement Protocol (TIP) for “Trauma-Informed Care in Behavioral Health Services.” ⁷ In that TIP, and in “SAMHSA's Concept of Trauma and Guidance for a Trauma-Informed Approach,” ⁸ SAMHSA identified trauma-specific interventions such as trauma-focused cognitive behavioral therapy, trauma-related cognitive processing therapy, relaxation training, biofeedback, breathing training, exposure therapy, eye movement desensitization and reprocessing, narrative therapy, skills training in affective and interpersonal regulation, stress inoculation training, or trauma incident reduction, among others. In the TIP, SAMHSA describes the selected practices as a non-exhaustive list of potential ways to promote recovery from trauma. In addition, SAMHSA acknowledges that only some of the treatments listed in the TIP are “evidence based” because additional research is needed and some practices are emerging. Grantees may also support other interventions focused on supporting trauma recovery so long as the provider is State-licensed for the relevant trauma-specific mental health service she or he offers. Grantees are encouraged but not required to focus their support on interventions that are evidence based. Medical services are not allowable uses of funds under this grant. In general, mental health counseling is not prohibited by this limitation. However, any mental health services provided by a psychiatrist would need to be carefully evaluated by the grantee before services are rendered. Because psychiatrists are trained medical doctors, they can prescribe medications, and may spend time with patients on medication management as part of treatment. Funding from this program must not be used to provide these medical services or any medical procedure.

⁷ Substance Abuse and Mental Health Services Administration. (2014). Trauma-Informed Care in Behavioral Health Services. Treatment Improvement Protocol (TIP) Series 57. HHS Publication No. (SMA) 13-4801, 137. Rockville, MD: Substance Abuse and Mental Health Services Administration.

⁸ Substance Abuse and Mental Health Services Administration. (2014). SAMHSA's Concept of Trauma and Guidance for a Trauma-Informed Approach. HHS Publication No. (SMA) 14-4884, 7. Rockville, MD: Substance Abuse and Mental Health Services Administration.

SEAs are eligible to apply for grants under this competition. An SEA, at its discretion, may partner with one or more nonprofit organizations, institutions of higher education (IHEs), or State or local mental health agencies to carry out its project. If an SEA establishes a partnership for this purpose, the SEA may apply under the competitive preference priority on the basis of such a partnership.

SEAs will use grant funds to pay providers for the trauma-specific mental health services a student receives. To support the student or parent, an SEA may, but is not required to, identify common forms of trauma-specific mental health services; identify State-licensed service providers who offer trauma-specific mental health services; and provide eligible students or the parents of eligible students with the option to seek services from SEA-identified providers while not prohibiting students or parents from identifying providers not already identified by the State. That is, an SEA has flexibility to design its program by (1) establishing eligible providers proactively and reviewing additional requested providers, or (2) solely reviewing requested providers. Whether or not an SEA proactively identifies providers that meet the criteria depends on how the SEA proposes to operationalize its program. The SEA will pay providers of trauma-specific mental health services for services a student receives. Regardless of the method an SEA uses, it must ensure that any provider is implementing trauma-specific mental health services to support an eligible student; is State-licensed for the services supported by the grant funds; and is providing secular, neutral, and non-ideological services. Additionally, a student or parent may request a service provider that delivers services virtually or through other video, audio, or mobile platforms so long as such service meets the definition of “trauma-specific mental health services.” After approving a student for support and explaining to the student and parent the process by which the SEA will provide support, the SEA pays providers for the trauma-specific mental health services a student receives.

SEAs must ensure that, to the extent possible, Department grant funds support only services that an individual affirms are unaffordable, not covered, or insufficiently covered by public or commercial health insurance programs. An individual may determine that services are unaffordable because, for example, the co-payment or deductible is too high. Likewise, an individual may determine that a service is insufficiently covered because the cost of the service would exceed an annual insurance cap. In either of these examples, Department grant funds may support services. In addition, SEAs are required to implement policies and procedures that ensure other sources of funding are utilized first when practicable and available for that individual. An SEA may propose to leverage a partnership, including a partnership proposed under the competitive preference priority, as a mechanism to assist in ensuring that insurance or other revenue are used before grant funds wherever practicable. SEAs should also refer appropriate individuals to other systems from which a student may be eligible to receive services (for example, the Children's Health Insurance Program (CHIP)), if appropriate for and desired by that individual student or parent to meet the needs of the student.

Consistent with ESEA section 4001(a), an SEA must obtain prior written, informed consent from the parent of each child who is under 18 years of age to participate in any mental health assessment or service that is funded under this program. In obtaining such prior written, informed consent, an SEA could, for example, include a question about whether an individual student has access to public or commercial health insurance that would support access to the provider from whom an individual is requesting services. The inclusion of such a question on a form confirming written, informed consent for mental health assessment or services under this program would meet the SEA's obligation described above related to insurance.

SEAs may also use the administrative portion of grant awards under this program to provide training to LEA- or school-based staff or community members or other appropriate individuals on trauma-specific mental health services and trauma screenings or trauma assessments, consistent with Application Requirements 1 and 7. This training may strengthen local capacity to support students in school by expanding awareness of trauma symptoms and providing staff and other appropriate individuals with strategies to identify students who need trauma-specific mental health services.⁹

⁹ The Department of Health and Human Services Administration for Children and Families compiled a set of trauma resources for schools, available at https://www.acf.hhs.gov/trauma-toolkit/schools.

In administering the program, the SEA accepts requests for services that originate either from a student or the student's parent or from an LEA or school referral to the program. The SEA must establish a method to ensure that each student that receives support is a student from a low-income family who has experienced trauma that is impacting the student's academic experience (e.g., attendance, behavior, academic performance, or another measure proposed by the SEA in its application), and that the service is not otherwise covered or is unaffordable.

This program is aligned with Supplemental Priority 10(b) from the Department's notice of Final Supplemental Priorities and Definitions for Discretionary Grant Programs (Supplemental Priorities), published in the Federal Register on March 2, 2018 (83 FR 9096), which encourages projects designed to create positive and safe learning environments that support the needs of all students, including by providing school personnel with effective strategies. If students who have experienced trauma exhibit symptoms that negatively impact the learning environment, recovery from such trauma, supported by trauma-specific mental health services through this program, may improve the overall classroom environment.

Supplemental Priority 2(g) emphasizes the importance of partnerships with other State or local entities, not-for-profit organizations, or IHEs. Both the FCSS report and the literature on trauma-informed care emphasize the importance of collaboration across agencies and sectors to promote comprehensive support for students who have experienced trauma. The competitive preference priority in this notice is adapted from Supplemental Priority 2(g) and is intended to encourage applicants to partner with appropriate entities to best serve students and build State and local capacity. An SEA may partner with one or more State or local mental health agency or agencies and receive points under this priority, since such agencies are local or State entities.

Priorities: This notice contains one absolute priority and one competitive preference priority. We are establishing these priorities for the FY 2019 grant competition and any subsequent year in which we make awards from the list of unfunded applications from this competition, in accordance with section 437(d)(1) of the General Education Provisions Act (GEPA), 20 U.S.C. 1232(d)(1).

Absolute Priority: This priority is an absolute priority. Under 34 CFR 75.105(c)(3) we consider only applications that meet this priority.

This priority is:

Empowering Individual Students (or their Parents on Behalf of the Students, as appropriate) from Low-Income Families Who Have Experienced Trauma to Obtain Trauma-Specific Mental Health Services from the Providers that Best Meet Their Needs.

Under this priority, the Department supports projects in which an SEA compensates providers for trauma-specific mental health services for students who are from low-income families and who have experienced trauma that is impacting their educational experiences (e.g., by negatively affecting attendance, behavior, academic performance, or another measure identified by the SEA in its application). Such services should not already be covered by insurance or are unaffordable. Students may seek, on their own or through their parents, school, or school district, as appropriate, a provider of trauma-specific mental health services that—

(a) Is State-licensed for the services provided;

(b) Provides services that are secular, neutral, and non-ideological.

Competitive Preference Priority: This priority is a competitive preference priority. Under 34 CFR 75.105(c)(2)(i), we award up to an additional five points to an application, depending on how well the application meets this priority. An applicant that addresses the competitive preference priority should indicate so in the abstract section of its application.

This priority is:

Building and Maintaining Partnership(s) to Support Students Recovering from Trauma. (0 to 5 points)

Projects that propose to work with one or more local or State entities, such as nonprofit organizations, IHEs, or State or local mental health agencies, to implement the project. Such an application includes a memorandum of agreement (MOA) or memorandum of understanding (MOU) signed by the authorized representatives of the SEA and partner entity specifying how each will provide resources and/or administer services that are likely to substantially contribute to positive outcomes for the proposed project.

Note: Points will be awarded based on the strength of the partnership agreement and the quality of the management plan as reflected in the MOA or MOU, which articulates the roles and responsibilities of each partner, and not based on the number of partners.

Requirements: We are establishing these requirements for the FY 2019 grant competition and any subsequent year in which we make awards from the list of unfunded applications from this competition, in accordance with section 437(d)(1) of GEPA, 20 U.S.C. 1232(d)(1).

Application Requirements: An SEA must include the following in its application:

(1) A description of the SEA's approach to increasing access to trauma-specific mental health services using this grant and other resources.

An SEA must describe its approach to increasing access to trauma-specific mental health services (such as those referenced in the Background Section regarding SAMHSA TIP 57) through this program. An SEA may use, in total, no more than 15 percent of grant funds for grant administration, which may include collaboration with other agencies or training for LEA- or school-based staff, community members, or other appropriate individuals provided through this program (see Application Requirement 7 regarding the Budget). An SEA must describe how this work will complement, rather than duplicate, existing efforts to provide school-based mental health services and how the project funds will supplement, and not supplant, non-Federal funds that would otherwise be available for activities funded under this program.

(2) A description of the approach to identifying, referring, and serving students in need of trauma-specific mental health services through this grant. An SEA must—

(a) Describe how a student, or a parent on behalf of a student, accesses the program. Specifically, the SEA must describe how it will support schools and LEAs in identifying, referring, and serving students from low-income families whose experience with trauma is affecting school performance, including academic progress, behavior, attendance at school, or another measure proposed by the SEA in its application. Such a description may include the trauma screening tool(s) or trauma assessment(s) used in schools in the State (or a description of how the applicant will develop or recommend such tools) and a description of how an applicant will train school staff and, as appropriate, community members to identify symptoms of trauma. The description must include the methods the State will use to communicate the availability of funding under this program to LEAs, schools, and parents and to process requests for trauma-specific mental health services from students or their parents, whether those requests come directly from students or their parents or from an LEA or school on behalf of the student, consistent with applicable privacy requirements;

(b) Describe the process it will use to establish that a student requesting services is eligible, including how it will confirm that a student has experienced trauma that has had a negative impact on school performance (e.g., attendance, referrals for behavior, academic achievement or grades, or another measure proposed by the SEA in its application) and that the student is a student from a low-income family, as defined in this notice. In describing how it will confirm that a student is a student from a low-income family, the SEA must specify the poverty measure(s) and threshold(s) it will use from among those identified in 20 U.S.C. 6313 (title I, part A of the ESEA), consistent with the definition of “student from a low-income family” in this notice, and must also describe the method it will use to verify that a student is from a low-income family and how such method is minimally burdensome on the requesting student or parent;

(c) Describe how it will include private school students from low-income families on an equitable basis, in accordance with section 8501 of the ESEA (20 U.S.C. 7881), in identifying and serving students in need of trauma-specific mental health services;

(d) Describe how it will obtain prior written, informed consent from the parent of each child who is under 18 years of age to participate in any mental health assessment or service that is funded under this program; and

(e) Describe how it will ensure that, to the extent possible, Department grant funds support only services that the student, or parent, as applicable, affirms are unaffordable, not covered, or insufficiently covered, by public or commercial health insurance programs.

(3) A description of the approach to paying eligible providers of trauma-specific mental health services.

An SEA must—

(a) Describe the methods it will use to pay appropriate providers of trauma-specific mental health services; and

(b) Describe any criteria it will use to determine that a provider offers trauma-specific mental health services, how it will ensure that providers are State-licensed, and the method it will use to offer relevant information about eligible providers to students and parents seeking support through this program, while also allowing students and parents to identify the State-licensed provider that best meets their needs and offers secular, neutral, and non-ideological services, while not prohibiting students or parents from identifying providers not already identified by the State on a list, if applicable.

(4) A project plan that includes a specific timeline for planning, outreach, and service delivery. An SEA must provide a detailed project plan specifying its methods for communicating the availability of funds, providing services and payments to providers with minimal burden on students and parents, and continuously improving grant activities. As necessary and appropriate, an SEA may describe in its plan a period of up to 12 months during the first year of the project period for program planning. SEAs that propose to use this option must provide sufficient justification for why this program planning time is necessary, provide the intended outcomes of program planning in Year 1, and include a description of the proposed strategies and activities to be supported, such as recruiting and vetting eligible providers, performing outreach to communities in need of support, and training schools, LEAs, and community members, including any trauma screener(s) or trauma assessment(s) the SEA, at its discretion, recommends.

(5) A list of key project personnel and a description of each of their qualifications to serve in the identified role. An SEA must provide a list of key project personnel, including, at a minimum, the project director, key project personnel, and, as applicable, project consultants or subcontractors, and describe their roles and relevant training and experience. To the greatest extent practicable, the SEA should include a resume for all key project personnel and any additional description of training and qualifications.

(6) A description of how an SEA will document the results of the funded project and continuously improve services provided with grant funds to support student academic success. An SEA must—

(a) Describe how it will document the specific types of trauma-specific mental health services supported by the project and how it will share results of the project, consistent with the Family Educational Rights and Privacy Act (FERPA) and the Health Insurance Portability and Accountability Act (HIPAA) requirements, to promote improved capacity in other communities and schools. Such efforts must include, at a minimum, how the SEA will identify the individual trauma-specific mental health services provided and how the SEA will document any changes in individual student academic success, including changes in attendance, behavior, and academic progress, of individual students who participate in the program. This description must include an explanation of the SEA's approach to contributing to the evidence basis for trauma-specific mental health services while protecting student privacy;

(b) Describe how it will define changes in attendance, behavior, and academic progress;

(c) Describe its approach to measuring student and/or parent satisfaction with grant-funded services; and

(d) Explain how it will use this information during the grant period for continuous improvement.

(7) A detailed project budget. An SEA must provide a specific project budget. In the budget, the SEA must specify the portion of funds that will be used for outreach, administration, and continuous improvement as compared with funds that directly support trauma-specific mental health services for the students. In total, administrative costs, including (1) training for LEA or school staff or community members on such topics as how to identify trauma symptoms and administer trauma assessments, (2) outreach to LEAs, schools, and the public to increase awareness about the available funds, and (3) other administrative expenses, may not exceed 15 percent of the annual grant award amount or $30,000, whichever is greater.

Definitions: We establish the definitions of “student from a low-income family,” “trauma,” and “trauma-specific mental health services” for the FY 2019 grant competition and any subsequent year in which we make awards from the list of unfunded applications from this competition, in accordance with section 437(d)(1) of GEPA, 20 U.S.C. 1232(d)(1). The definitions of “local educational agency,” “parent,” and “State educational agency” are from 20 U.S.C. 7801.

These definitions are:

Local educational agency (LEA) means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) The term includes any other public institution or agency having administrative control and direction of a public elementary school or secondary school.

(c) The term includes an elementary school or secondary school funded by the Bureau of Indian Education but only to the extent that including the school makes the school eligible for programs for which specific eligibility is not provided to the school in another provision of law and the school does not have a student population that is smaller than the student population of the LEA receiving assistance under this chapter with the smallest student population, except that the school shall not be subject to the jurisdiction of any SEA other than the Bureau of Indian Education.

(d) The term includes educational service agencies and consortia of those agencies.

(e) The term includes the SEA in a State in which the SEA is the sole educational agency for all public schools.

Parent—The term “parent” includes a legal guardian or other person standing in loco parentis (such as a grandparent or stepparent with whom the child lives, or a person who is legally responsible for the child's welfare).

State educational agency (SEA) means the agency primarily responsible for the State supervision of public elementary or secondary schools.

Student from a low-income family means any student who is determined by an SEA, LEA, or school to be from a low-income family using a measure(s) of poverty identified in ESEA section 1113(a)(5)(A) by applying the measure(s) and threshold(s) specified by the SEA in its application.

Trauma means an event, series of events, or set of circumstances that is experienced by an individual as physically or emotionally harmful or life threatening and that has lasting adverse effects on the individual's functioning and mental, physical, social, or emotional well-being.

Trauma-specific mental health services are mental health treatment approaches designed specifically to treat trauma-related symptoms, trauma-related disorders, and specific disorders of traumatic stress, such as trauma-focused cognitive behavioral therapy, trauma-related cognitive processing therapy, relaxation training, biofeedback, breathing training, exposure therapy, eye movement desensitization and reprocessing, narrative therapy, skills training in affective and interpersonal regulation, stress inoculation training, trauma incident reduction, or other interventions focused on supporting trauma recovery. Note: Medical services are not allowable uses of funds under this grant. In general, mental health counseling is not prohibited by this limitation. However, any mental health services provided by a psychiatrist would need to be carefully evaluated by the grantee before services are rendered. Because psychiatrists are trained medical doctors, they can prescribe medications, and may spend time with patients on medication management as part of treatment. Funding from this program must not be used to provide these medical services or any medical procedure.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under title IV, part A, subpart 1 of the ESEA (20 U.S.C. 7113(a)(3)) and therefore qualifies for this exemption. In order to ensure timely grant awards, the Secretary has decided to forgo public comment on the priorities, definitions, and requirements under section 437(d)(1) of GEPA. These priorities, definitions, and requirements will apply to the FY 2019 grant competition and any subsequent year in which we make awards from the list of unfunded applications from this competition.

Program Authority: Section 4103(a)(3) of Title IV, Part A of the ESEA (20 U.S.C. 7113).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

II. Award Information

Type of Award: Discretionary grants.

Estimated Available Funds: $5,000,000.

Contingent upon the availability of funds and the quality of applications, we may make additional awards in FY 2020 and subsequent years from the list of unfunded applications from the competition announced in this notice.

Estimated Range of Awards: $500,000 to $1,500,000 per year.

Estimated Average Size of Awards: $1,000,000 per year.

Maximum Award: We will not make an award exceeding $1,500,000 for a single budget period of 12 months.

Estimated Number of Awards: 4-10.

Note: The Department is not bound by any estimates in this notice.

Project Period: Up to 60 months.

III. Eligibility Information

1. Eligible Applicants: SEAs.

2. a. Cost Sharing or Matching: This program does not require cost sharing or matching.

b. Supplement-Not-Supplant: This program involves supplement-not-supplant requirements.

3. Subgrantees: A grantee under this competition may not award subgrants to entities to directly carry out project activities described in its application.

4. Equitable Services: A grantee under this program is required to provide for the equitable participation of private school children, in accordance with section 8501 of the ESEA (20 U.S.C. 7881).

IV. Application and Submission Information

1. Application Submission Instructions: Applicants are required to follow the Common Instructions for Applicants to Department of Education Discretionary Grant Programs, published in the Federal Register on February 13, 2019 (84 FR 3768) and available at www.govinfo.gov/content/pkg/FR-2019-02-13/pdf/2019-02206.pdf, which contain requirements and information on how to submit an application.

2. Intergovernmental Review: This program is subject to Executive Order 12372 and the regulations in 34 CFR part 79. However, under 34 CFR 79.8(a), we waive intergovernmental review in order to make awards by the end of FY 2019.

3. Funding Restrictions: We reference regulations outlining funding restrictions in the Applicable Regulations section of this notice. In addition, we remind applicants that section 4001(b) of the ESEA (20 U.S.C. 7101) prohibits the use of funds for medical services or drug treatment or rehabilitation, except for integrated student supports, specialized instructional support services, or referral to treatment for impacted students, which may include students who are victims of, or witnesses to, crime or who illegally use drugs. In general, mental health counseling is not prohibited by this limitation. However, any mental health services provided by a psychiatrist would need to be carefully evaluated by the grantee before services are rendered. Because psychiatrists are trained medical doctors, they can prescribe medications, and may spend time with patients on medication management as part of treatment. Funding from this program must not be used to provide these medical services or any medical procedure.

V. Application Review Information

1. Selection Criteria: The selection criteria for this program are from 34 CFR 75.210. The maximum score for all selection criteria is 100 points. The points or weights assigned to each criterion are indicated in parentheses. Non-Federal peer reviewers will evaluate and score each application against the following selection criteria:

(a) Significance (25 points).

The Secretary considers the significance of the proposed project. In determining the significance of the proposed project, the Secretary considers the following factors:

(i) The extent to which the proposed project is likely to yield findings that may be utilized by other appropriate agencies and organizations.

(ii) The extent to which the proposed project is likely to build local capacity to provide, improve, or expand services that address the needs of the target population.

(iii) The potential replicability of the proposed project or strategies, including, as appropriate, the potential for implementation in a variety of settings.

(b) Quality of the Project Design (15 points).

The Secretary considers the quality of the design of the proposed project. In determining the quality of the design of the proposed project, the Secretary considers the following factors:

(i) The extent to which the design of the proposed project is appropriate to, and will successfully address, the needs of the target population or other identified needs.

(ii) The extent to which the design of the proposed project reflects up-to-date knowledge from research and effective practice.

(iii) The quality of the proposed demonstration design and procedures for documenting project activities and results.

(c) Quality of Project Services (30 points).

The Secretary considers the quality of the services to be provided by the proposed project. In determining the quality of the services to be provided by the proposed project, the Secretary considers the quality and sufficiency of strategies for ensuring equal access and treatment for eligible project participants who are members of groups that have traditionally been underrepresented based on race, color, national origin, gender, age, or disability. In addition, the Secretary considers:

(i) The extent to which the services to be provided by the proposed project are appropriate to the needs of the intended recipients or beneficiaries of those services.

(ii) The quality of plans for providing an opportunity for participation in the proposed project of students enrolled in private schools.

(d) Quality of Project Personnel (10 points).

The Secretary considers the quality of the personnel who will carry out the proposed project. In determining the quality of project personnel, the Secretary considers the extent to which the applicant encourages applications for employment from persons who are members of groups that have traditionally been underrepresented based on race, color, national origin, gender, age, or disability. In addition, the Secretary considers the following factors:

(i) The qualifications, including relevant training and experience, of the project director or principal investigator.

(ii) The qualifications, including relevant training and experience, of key project personnel.

(e) Quality of the Management Plan (20 points).

The Secretary considers the quality of the management plan for the proposed project. In determining the quality of the management plan for the proposed project, the Secretary considers the adequacy of the management plan to achieve the objectives of the proposed project on time and within budget, including clearly defined responsibilities, timelines, and milestones for accomplishing project tasks.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the Trauma Recovery Demonstration Grant Program:

(a) Cumulative, unduplicated number of students receiving trauma-specific mental health services from a provider chosen by the student or parent and supported by funds from this grant.

(b) Cumulative, unduplicated number and percentage of students or parents reporting satisfaction with the services provided under this grant as it relates to addressing the student's trauma symptoms.

(c) Consistent with applicable privacy laws and regulations, the percentage of students who have received trauma-specific mental health services who improved their attendance compared with a baseline of the same students' attendance in the period prior to receiving services through this grant.

These measures constitute the Department's indicators of success for this program. Consequently, we advise an applicant for a grant under this program to carefully consider these measures in conceptualizing the approach and evaluation for its proposed project. Each grantee will be required to provide, in its annual performance and final reports, data about its progress in meeting these measures. This data will be considered by the Department in making continuation awards.

Consistent with 34 CFR 75.591, grantees funded under this program must comply with the requirements of any evaluation of the program conducted by the Department or an evaluator selected by the Department.

Note: If the applicant does not have experience with collection and reporting of performance data through other projects or research, the applicant should provide other evidence of capacity to successfully carry out data collection and reporting for its proposed project.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) on request to the program contact person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Adobe Portable Document Format (PDF). To use PDF you must have Adobe Acrobat Reader, which is available free at the site.

You may also access documents of the Department published in the Federal Register by using the article search feature at www.federalregister.gov. Specifically, through the advanced search feature at this site, you can limit your search to documents published by the Department.

Dated: July 1, 2019.
Frank T. Brogan,
Assistant Secretary for Elementary and Secondary Education.

[FR Doc. 2019-14408 Filed 7-3-19; 8:45 am]

BILLING CODE 4000-01-P